SECURITIES AND EXCHANGE COMMISSION

[Release No. IC—25555 ]

Notice of Applications for Deregistration Under Section 8(f) of the Investment Company Act of 1940

April 26, 2002.

The following is a notice of applications for deregistration under section 8(f) of the Investment Company Act of 1940 for the month of April, 2002. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on May 21, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

CN Loan Fund Inc. [File No. 811-9895]

Summary: Applicant, a closed-end investment company, seeks an order declaring that it has ceased to be an investment company. Applicant has never made a public offering of its securities and does not propose to make a public offering. Applicant will continue to operate as a real estate investment trust in reliance on sections 3(c)(1), 3(c)(5)(C) and/or 3(c)(7) of the Act.

Filing Dates: The application was filed on March 28, 2002, and amended on April 16, 2002.

Applicant's Address: City National Center, 400 North Roxbury Dr., Beverly Hills, CA 90210.

MetaMarkets.com Funds [File No. 811-9351]

Summary: Applicant seeks an order declaring that it has ceased to be an investment company. On September 28, 2001, applicant made a liquidating distribution to its shareholders based on net asset value. Expenses of $29,000 incurred in connection with the liquidation were paid by applicant.

Filing Date: The application was filed on April 15, 2002.

Applicant's Address: PO Box 182208, Columbus, OH 43218.

Credit Suisse Growth Fund, Inc. [File No. 811-9681]

Summary: Applicant seeks an order declaring that it has ceased to be an investment company. By August 31, 2001, all shareholders of applicant had voluntarily redeemed their shares at net asset value. Expenses of approximately $2,500 incurred in connection with the liquidation were paid by Credit Suisse Asset Management, LLC, applicant's investment adviser.

Filing Date: The application was filed on April 15, 2002.

Applicant's Address: 466 Lexington Ave., New York, NY 10017.

Credit Suisse Institutional Services Fund, Inc. [File No. 811-10323]

Summary: Applicant seeks an order declaring that it has ceased to be an investment company. By October 2, 2001, applicant's sole shareholder had voluntarily redeemed its shares at net asset value. Expenses of approximately $2,500 incurred in connection with the liquidation were paid by Credit Suisse Asset Management, LLC, applicant's investment adviser.

Filing Date: The application was filed on April 15, 2002.

Applicant's Address: 466 Lexington Ave., New York, NY 10017.

Credit Suisse Warburg Pincus Long-Short Market Neutral Fund, Inc. [File No. 811-8925]

Summary: Applicant seeks an order declaring that it has ceased to be an investment company. By January 11, 2002, applicant had made a final liquidating distribution to its shareholders based on net asset value. Expenses of approximately $2,500 incurred in connection with the liquidation were paid by Credit Suisse Asset Management, LLC, applicant's investment adviser.

Filing Date: The application was filed on April 15, 2002.

Applicant's Address: 466 Lexington Ave., New York, NY 10017.

PNC Advisors Fund [File No. 811-10233]

Summary: Applicant seeks an order declaring that it has ceased to be an investment company. Applicant has never made a public offering of its securities and does not propose to make a public offering or engage in business of any kind.

Filing Dates: The application was filed on April 5, 2002, and amended on April 19, 2002.

Applicant's Address: 1600 Market Street, Philadelphia, PA 19103.

Rochdale Investment Insurance Trust [File No. 811-9857]

Summary: Applicant seeks an order declaring that it has ceased to be an investment company. Applicant has never made a public offering of its securities and does not propose to make a public offering or engage in business of any kind.

Filing Dates: The application was filed on April 5, 2002, and amended on April 17, 2002.

Applicant's Address: 570 Lexington Ave., New York, NY 10022-6837.

American Municipal Term Trust Inc. [File No. 811-6274]

Summary: Applicant, a closed-end investment company, seeks an order declaring that it has ceased to be an investment company. On April 10, 2001, applicant made a liquidating distribution to its shareholders based on net asset value. Expenses of $17,000 incurred in connection with the liquidation were paid by applicant.

Filing Date: The application was filed on April 1, 2002.

Applicant's Address: 601 Second Ave. S, Minneapolis, MN 55402.

Reich & Tang Government Securities Trust [File No. 811-4598]

Summary: Applicant seeks an order declaring that it has ceased to be an investment company. On March 28, 1996, applicant made a liquidating distribution to its shareholders based on net asset value. Expenses of $3,000 incurred in connection with the liquidation were paid by Reich & Tang Asset Management, LLC, applicant's investment adviser.

Filing Date: The application was filed on March 25, 2002.

Applicant's Address: 600 Fifth Ave., New York, NY 10020.

Credit Suisse WorldPerks Tax Free Money Market Fund, Inc. [File No. 811-8901] Credit Suisse WorldPerks Money Market Fund, Inc. [File No. 811-8899]

Summary: Each applicant seeks an order declaring that it has ceased to be an investment company. By October 31, 2001, all shareholders of each applicant had redeemed their shares based on net asset value. Applicants incurred no expenses in connection with the liquidations.

Filing Dates: The applications were filed on March 13, 2002, and amended on April 8, 2002.

Applicants' Address: 466 Lexington Ave., New York, NY 10017.

For the Commission, by the Division of Investment Management, pursuant to delegated authority.
Margaret H. McFarland,
Deputy Secretary.

[FR Doc. 02-10810 Filed 5-1-02; 8:45 am]

BILLING CODE 8010-01-P